DEPARTMENT OF HEALTH AND HUMAN SERVICES

Centers for Disease Control and Prevention

[30Day-08-0669]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Evaluation of State Nutrition and Physical Activity Programs to Prevent Obesity and Other Chronic Diseases—Reinstatement—National Center for Chronic Disease Prevention and Health Promotion (NCCDHP), Centers for Disease Control and Prevention (CDC).

Background and Brief Description

In order to prevent and control obesity and other chronic diseases, CDC established state-based nutrition and physical activity programs to support the development and implementation of nutrition and physical activity interventions, particularly through population-based strategies such as policy-level changes, environmental supports and the social marketing process. The overall programmatic goal is to promote population-based behavior change, such as increased physical activity and better dietary habits, thus leading to a reduction in the prevalence of obesity, and ultimately to a reduction in the prevalence of chronic diseases. CDC funding for state nutrition and physical activity programs may be used for capacity building, collaboration, planning, monitoring the burden of obesity, intervention, and evaluation.

CDC has previously collected information to evaluate the State Nutrition and Physical Activity Programs to Prevent Obesity and Other Chronic Diseases (OMB no. 0920-0669, exp. date 01/31/2008). The evaluation was designed to focus on recipient activities as outlined in the original funding announcement.

CDC proposes to reinstate the information collection with minor changes to the data collection instrument, in response to recommendations from the respondents, CDC staff, and the evaluation contractor. Changes are designed to streamline and clarify questions and response options. The project will continue to be conducted over a 3-year period. Information will be collected twice per year via a web-based data collection system.

There are no costs to the respondents other than their time. The total estimated annualized burden hours are 672.

Estimated Annualized Burden Hours:
Type of respondents | Number of respondents | Number of responses per respondent | Average burden per response (in hours)
States participating in NPAO | 28 | 2 | 12

Dated: February 29, 2008.
Maryam I. Daneshvar,
Acting Reports Clearance Officer, Centers for Disease Control and Prevention.

[FR Doc. E8-5260 Filed 3-14-08; 8:45 am]

BILLING CODE 4163-18-P